DEPARTMENT OF COMMERCE

National Oceanic and Atmospheric Administration

RIN 0648-XE545

Gulf of Mexico Fishery Management Council; Public Meeting

AGENCY: National Marine Fisheries Service (NMFS), National Oceanic and Atmospheric Administration (NOAA), Commerce.

ACTION: Notice of a public meeting.

SUMMARY: The Gulf of Mexico and South Atlantic Fishery Management Councils will hold a Joint Spiny Lobster Advisory Panel (AP) meeting.

DATES: The meeting will convene on Monday, April 25, 2016, 9 a.m. to 5 p.m.

ADDRESSES: The meeting will take place at the Marriott Key Largo Bay hotel, 103800 Overseas Highway, Mile Marker 103.8, Key Largo, FL 33037; telephone: (305) 453-0000.

Council address: Gulf of Mexico Fishery Management Council, 2203 N. Lois Avenue, Suite 1100, Tampa, FL 33607; telephone: (813) 348-1630.

FOR FURTHER INFORMATION CONTACT: Dr. Morgan Kilgour, Fishery Biologist, Gulf of Mexico Fishery Management Council; morgan.kilgour@gulfcouncil.org, telephone: (813) 348-1630; and Kari Maclauchlin, Fishery Social Scientist; kari.maclauchlin@safmc.net, telephone: (843) 571-4366.

SUPPLEMENTARY INFORMATION:

Agenda

The meeting will begin with election of a chair and vice chair for the Gulf advisory panel (AP); the South Atlantic AP will hold elections later in the meeting. The first item on the agenda is to review spiny lobster landings and the reports from the 2015 and the 2016 Review Panels. The APs will discuss annual catch target and annual catch limit overages and will be presented with an overview of different metrics that could be used to calculate new metrics. The APs will be presented with spiny lobster fishery issues. The APs will review and discuss the spiny lobster closed areas established in Amendment 11 and will review the proposed coral habitat areas of particular concern for the Gulf Council. The final agenda item is other business.

—Meeting Adjourns—

The Agenda is subject to change, and the latest version along with other meeting materials will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “Joint Spiny Lobster AP meeting-2016-04”.

The meeting will be webcast over the internet. A link to the webcast will be available on the Council's Web site, http://www.gulfcouncil.org.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: March 29, 2016.
Tracey L. Thompson,
Acting Deputy Director, Office of Sustainable Fisheries, National Marine Fisheries Service.

[FR Doc. 2016-07409 Filed 3-31-16; 8:45 am]

BILLING CODE 3510-22-P